DEPARTMENT OF ENERGY

Federal Energy Regulatory Commission

[Docket No. RP03-56-000]

Guardian Pipeline, L.L.C.; Notice of Proposed Changes in FERC Gas Tariff

November 6, 2002.

Take notice that on October 31, 2002, Guardian Pipeline, L.L.C. (Guardian), tendered for filing as part of its FERC Gas Tariff, Original Volume No. 1, revised tariff sheets listed in Appendix A attached to the filing, to be effective December 1, 2002.

Guardian states that the purpose of this filing is to establish two new rate schedules: (1) An enhanced aggregation and wheeling service under Rate Schedule EAW, and (2) a parking and lending service under Rate Schedule PAL. Guardian explains that these new services, developed by Guardian in conjunction with its shippers, will enable Guardian's current and future shippers to maximize the flexibility of the transportation services offered by Guardian as well as maximize opportunities to move gas between the pipelines with which Guardian interconnects upstream of its Joliet Compressor Station. Guardian also states that these services will be useful imbalance management tools for shippers consistent with the Commission's direction in Order No. 637. Guardian's Rate Schedule EAW and Rate Schedule PAL are described in detail in Guardian's filing in this docket.

Guardian states that copies of this tariff filing are being served on its shippers and the Wisconsin and Illinois public service commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings.See, 18 CFR 385.2001(a)(1)(iii) and the instructions on the Commission's web site under the “e-Filing” link.

Magalie R. Salas,
Secretary.

[FR Doc. 02-28779 Filed 11-12-02; 8:45 am]

BILLING CODE 6717-01-P